DEPARTMENT OF EDUCATION

[CFDA No. 84.170A]

Office of Postsecondary Education; Jacob K. Javits Fellowship Program; Notice Inviting Applications for New Awards for Fiscal Year (FY) 2004

Purpose of Program: The purpose of the Jacob K. Javits (JKJ) Fellowship Program is to award fellowships to eligible students of superior ability, selected on the basis of demonstrated achievement, financial need, and exceptional promise, to undertake graduate study in selected fields in the arts, humanities, and social sciences leading to a doctoral degree or to a master's degree in those fields in which the master's degree is the terminal highest degree awarded in the selected field of study at accredited institutions of higher education. The selected fields in the arts are: creative writing, music performance, music theory, music composition, music literature, studio arts (including photography), television, film, cinematography, theater arts, playwriting, screenwriting, acting, and dance. The selected fields in the humanities are: art history (including architectural history), archeology, area studies, classics, comparative literature, English language and literature, folklore, folk life, foreign languages and literature, history, linguistics, philosophy, religion, excluding study of religious vocation, speech, rhetoric, and debate. The selected fields in the social sciences are: anthropology, communications and media, economics, ethnic and cultural studies, geography, political science, psychology (excluding clinical psychology), public policy and public administration, and sociology (excluding the master's and doctoral degrees in social work).

Eligible Applicants: Individuals who at the time of application: (1) Have not completed their first full year of study for a doctoral degree or a master's degree in those fields in which the master's degree is the terminal highest degree awarded in the selected field of study, or (2) will be entering a doctoral degree program or a master's degree program in those fields in which the master's degree is the terminal highest degree awarded in the selected field of study in academic year 2004-2005; (3) are eligible to receive grant, loan, or work assistance pursuant to section 484 of the Higher Education Act, as amended; and, (4) intend to pursue a doctoral or master's degree in fields selected by the JKJ Fellowship Board at accredited U.S. institutions of higher education. An individual must be a citizen or national of the United States, a permanent resident of the United States, in the United States for other than a temporary purpose and intending to become a permanent resident, or a citizen of any one of the Freely Associated States.

Note: An individual who has had a JKJ Fellowship in any field of study is ineligible.

Applications Available: August 11, 2003.

Deadline for Transmittal of Applications: October 3, 2003 for the JKJ Fellowship Program. January 31, 2004 for the Free Application for Federal Student Aid (FAFSA).

Estimated Available Funds: $738,000.

Estimated Average Size of Awards: $42,000.

Estimated Number of Awards: 18.

Note: The Department is not bound by any estimates in this notice.

Project Period: Up to 48 months.

Applicable Regulations: (a) The Education Department General Administrative Regulations (EDGAR) in 34 CFR parts 74, 75 (except as provided in 34 CFR 650.3(b)), 77, 82, 85, 86, 97, 98 and 99; and (b) the regulations for this program in 34 CFR part 650.

Performance Measures: The effectiveness of the JKJ Fellowship Program will be measured by the enrollment rate of talented graduate students, with demonstrated financial need, who are pursuing the highest degree available in their designated fields of study. Institutions of higher education wherein the fellows are enrolled will be expected to submit an annual report. This report will document the fellows' satisfactory academic progress and the determined financial need. The Department will use the reports to assess the program's success in assisting fellows in completing their course of study and receiving their degree.

SUPPLEMENTARY INFORMATION: Stipend Level: The Secretary will determine the JKJ fellowship stipend for the academic year 2004-2005 based on the level of support provided by the National Science Foundation (NSF) graduate fellowships as of February 1, 2004, except that the amount will be adjusted as necessary so as not to exceed the JKJ fellow's demonstrated level of financial need.

Institutional Payment: The Secretary will determine the institutional payment for the 2004-2005 academic year by adjusting the previous academic year institutional payment, which is $11,296 per fellow, by the U.S. Department of Labor's Consumer Price Index for the 2003 calendar year. The institutional payment will be reduced by the tuition and fees the institution charges and collects from a JKJ fellow.

For Applications Contact: Federal Student Aid Information Center, P.O. Box 84, Washington DC 20044-0084. Telephone (toll free): 1-800-433-3243, FAX: (319) 358-4316. The application may also be accessed on the JKJ Fellowship Program Web site: http://www.ed.gov/offices/OPE/HEP/iegps/javits.html.

If you use a telecommunications device for the deaf (TDD), you may call the Federal Information Relay Service (FIRS) at 1-800-877-8339.

Note: The FAFSA may be obtained from the institution of higher education's financial aid office or accessed at: http://www.fafsa.ed.gov.

FOR FURTHER INFORMATION CONTACT: Carmen Gordon, Jacob K. Javits Fellowship Program, U.S. Department of Education, International Education and Graduate Programs Service, 1990 K St., NW., Suite 6000, Washington, DC 20006-8521. Telephone: (202) 502-7542 or via Internet: ope_javits_program@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1134-1134d.

Dated: July 28, 2003.
Sally L. Stroup,
Assistant Secretary, Office of Postsecondary Education.

[FR Doc. 03-19624 Filed 7-31-03; 8:45 am]

BILLING CODE 4000-01-P